DELAWARE RIVER BASIN COMMISSION

Notice of Public Hearing and Business Meeting

November 12 and December 9, 2020

Notice is hereby given that the Delaware River Basin Commission will hold a public hearing on Thursday, November 12, 2020. A business meeting will be held the following month on Wednesday, December 9, 2020. Both the hearing and the business meeting are open to the public. In light of COVID-19 mitigation measures in effect for DRBC member states, both meetings will be conducted remotely. Please check the Commission's website, www.drbc.gov, on or after October 28, 2020 for details about the meeting formats and how to attend.

Public Hearing. The Commission will conduct the public hearing remotely on November 12, 2020, commencing at 1:30 p.m. Hearing items will include draft dockets for withdrawals, discharges, and other projects that could have a substantial effect on the basin's water resources. The list of projects scheduled for hearing, including project descriptions, will be posted on the Commission's website, www.drbc.gov, in a long form of this notice at least ten days before the hearing date.

Written comments on matters scheduled for hearing on November 12, 2020 will be accepted through 5:00 p.m. on November 17, 2020.

The public is advised to check the Commission's website periodically prior to the hearing date, as items scheduled for hearing may be postponed if additional time is needed to complete the Commission's review, and items may be added up to ten days prior to the hearing date. In reviewing docket descriptions, the public is also asked to be aware that the details of projects may change during the Commission's review, which is ongoing.

Public Meeting. The public business meeting on December 9, 2020 will begin at 10:30 a.m. and will include: Adoption of the Minutes of the Commission's September 10, 2020 Business Meeting; announcements of upcoming meetings and events; a report on hydrologic conditions; reports by the Executive Director and the Commission's General Counsel; and consideration of any items for which a hearing has been completed or is not required. At the business meeting on December 9, 2020, the latter may include but are not limited to: Possible Commission action on the findings and recommendations of the Hearing Officer in the matter of Docket D-2017-009-2 for the Gibbstown Logistics Center Dock 2; and resolutions for the minutes (a) authorizing the Executive Director to enter into a contract for analytical services for toxicity testing from surface water samples collected in the Delaware River Estuary; and (b) amending the Administrative Manual—Bylaws, Management and Personnel regarding approved holidays.

After all scheduled business has been completed and as time allows, the Business Meeting will be followed by up to one hour of Open Public Comment, an opportunity to address the Commission on any topic concerning management of the basin's water resources outside the context of a duly noticed, on-the-record public hearing.

There will be no opportunity for additional public comment for the record at the December 9 Business Meeting on items for which a hearing was completed on November 12 or a previous date. Commission consideration on December 9 of items for which the public hearing is closed may result in approval of the item (by docket or resolution) as proposed, approval with changes, denial, or deferral. When the Commissioners defer an action, they may announce an additional period for written comment on the item, with or without an additional hearing date, or they may take additional time to consider the input they have already received without requesting further public input. Any deferred items will be considered for action at a public meeting of the Commission on a future date.

Advance Sign-Up for Oral Comment. Individuals who wish to comment on the record during the public hearing on November 12 or to address the Commissioners informally during the Open Public Comment portion of the meeting on December 9 as time allows, are asked to sign up in advance through EventBrite. Links to EventBrite for the Public Hearing and the Business Meeting are posted at www.drbc.gov. For assistance, please contact Ms. Patricia Hausler of the Commission staff, at patricia.hausler@drbc.gov.

Addresses for Written Comment. Written comment on items scheduled for hearing may be made through the Commission's web-based comment system, a link to which is provided at www.drbc.gov. Use of the web-based system ensures that all submissions are captured in a single location and their receipt is acknowledged. Exceptions to the use of this system are available based on need, by writing to the attention of the Commission Secretary, DRBC, P.O. Box 7360, 25 Cosey Road, West Trenton, NJ 08628-0360. For assistance, please contact Patricia Hausler at patricia.hausler@drbc.gov.

Accommodations for Special Needs. Individuals in need of an accommodation as provided for in the Americans with Disabilities Act who wish to attend the meeting or hearing should contact the Commission Secretary directly at 609-883-9500 ext. 203 or through the Telecommunications Relay Services (TRS) at 711, to discuss how we can accommodate your needs.

Additional Information, Contacts. Additional public records relating to hearing items may be examined at the Commission's offices by appointment by contacting Denise McHugh, 609-883-9500, ext. 240. For other questions concerning hearing items, please contact David Kovach, Project Review Section Manager at 609-883-9500, ext. 264.

Dated: October 15, 2020.
Pamela M. Bush,
Commission Secretary and Assistant General Counsel.

[FR Doc. 2020-23447 Filed 10-21-20; 8:45 am]

BILLING CODE 6360-01-P